DEPARTMENT OF ENERGY

Federal Energy Regulatory Commission

[Project No. 14798-000]

Western Minnesota Municipal Power Agency; Notice of Preliminary Permit Application Accepted for Filing and Soliciting Comments, Motions To Intervene, and Competing Applications

On August 15, 2016, Western Minnesota Municipal Power Agency filed an application for a preliminary permit, pursuant to section 4(f) of the Federal Power Act (FPA), proposing to study the feasibility of the Coon Rapids Hydroelectric Project (Coon Rapids Project or project) located on the Mississippi River at River Mile 866.2, about 11.5 miles north of downtown Minneapolis, Minnesota. The sole purpose of a preliminary permit, if issued, is to grant the permit holder priority to file a license application during the permit term. A preliminary permit does not authorize the permit holder to perform any land-disturbing activities or otherwise enter upon lands or waters owned by others without the owners' express permission.

The proposed project would consist of the following facilities: (1) An existing reservoir with a surface area of 600 square miles at normal pool elevation of 830.1 National Geodetic Vertical Datum with no storage capacity; (2) the existing 1,455-foot-long, 30.8-foot-high Coon Rapids Dam with nine intermediate piers and ten spans with crest gates; (3) an array of micro-turbines placed in front of two cast in place powerhouses; (4) a 97-foot-long, 18-foot-wide, 19-foot-high reinforced concrete powerhouse located immediately downstream of the span 9 spillway section and a 103-foot-long, 18-foot-wide, 19-foot-high reinforced concrete powerhouse located immediately downstream of the span 10 spillway section with each powerhouse divided in half resulting in four bays in which the micro-turbines would be installed; (5) two crane rails spanning the length of each powerhouse to remove the micro-turbine units for maintenance and lower them in place for generation; (6) a tailrace made of steel draft tubes discharging directly into the Mississippi River; (7) a third powerhouse 60-foot-wide by 80-foot-long containing the controls for the dam's crest gates and necessary electrical and mechanical equipment to support the micro-turbines; (8) a 550-foot-long, 13.8 kilo-volt underground transmission line connecting to an Xcel Energy substation; and (9) appurtenant facilities. The estimated annual generation of the proposed Coon Rapids Project would be 62,790 megwatt-hours.

Applicant Contact: Raymond J. Wahle, P.E., Missouri River Energy Services, 3724 W. Avera Drive, P.O. Box 88920, Sioux Falls, SD 57109; phone: (605) 330-6963; fax: (605) 978-3960; email: rwahle@mrenergy.com.

FERC Contact: Sergiu Serban; phone: (202) 502-6211; email: sergiu.serban@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14798-000.

More information about this project, including a copy of the application, can be viewed or printed on the “eLibrary” link of Commission's Web site at http://www.ferc.gov/docs-filing/ecomment.asp. Enter the docket number (P-14798) in the docket number field to access the document. For assistance, contact FERC Online Support.

Dated: September 12, 2016.
Kimberly D. Bose,
Secretary.

[FR Doc. 2016-22603 Filed 9-19-16; 8:45 am]

BILLING CODE 6717-01-P